DEPARTMENT OF TRANSPORTATION

Federal Aviation Administration

14 CFR Part 39

[Docket No. FAA-2008-0639; Directorate Identifier 2007-NM-003-AD; Amendment 39-15564; AD 2008-13-01]

RIN 2120-AA64

Airworthiness Directives; Fokker Model F27 Mark 050 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

During scheduled X-ray inspections of Fokker 50 (F27 Mark 050) engine mounting frames, welding defects were discovered. In two forward frames and one aft frame, defects were found in a total of 4 weld locations. Investigation showed that during manufacture of the frames, when the tubes were welded to the end fittings, unintentional sideways movement of the electric arc resulted in some welds running beside the borderline for a part of the tube circumference. Where a weld runs beside the borderline, there is no connection between tube and end fitting for that part of the circumference, directly affecting the structural integrity of the engine mounting frame connections. The defective welding process appears to have happened at some of the welds in an unknown number of engine mounting frames. This condition, if not corrected, could lead to failure of the engine mounting frame in cases where multiple welds are severely affected, potentially resulting in in-flight loss of an engine. * * *

This AD requires actions that are intended to address the unsafe condition described in the MCAI.

DATES: This AD becomes effective August 1, 2008.

The Director of the Federal Register approved the incorporation by reference of certain publications listed in the AD as of August 1, 2008.

We must receive comments on this AD by August 18, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Discussion

The Civil Aviation Authority—The Netherlands (CAA-NL), which is the aviation authority for the Netherlands, has issued Dutch Airworthiness Directive NL-2005-015, dated November 30, 2005 (referred to after this as “the MCAI”), to correct an unsafe condition for the specified products. The MCAI states:

During scheduled X-ray inspections of Fokker 50 (F27 Mark 050) engine mounting frames, welding defects were discovered. In two forward frames and one aft frame, defects were found in a total of 4 weld locations. Investigation showed that during manufacture of the frames, when the tubes were welded to the end fittings, unintentional sideways movement of the electric arc resulted in some welds running beside the borderline for a part of the tube circumference. Where a weld runs beside the borderline, there is no connection between tube and end fitting for that part of the circumference, directly affecting the structural integrity of the engine mounting frame connections. The defective welding process appears to have happened at some of the welds in an unknown number of engine mounting frames. This condition, if not corrected, could lead to failure of the engine mounting frame in cases where multiple welds are severely affected, potentially resulting in in-flight loss of an engine. Since an unsafe condition had been identified that may exist on aircraft of the same type design, Airworthiness Directive NL-2005-007 was issued to require * * * a one-time inspection for improper welds. The present AD further specifies the criteria and compliance times for the follow-up NDT (non-destructive test) inspection and repair or replacement of engine mounting frames, as necessary.

Corrective action includes contacting Fokker for repair instructions and repair. You may obtain further information by examining the MCAI in the AD docket.

Relevant Service Information

Fokker Services B.V. has issued the service information identified in the following table. The actions described in this service information are intended to correct the unsafe condition identified in the MCAI.

Service Information
Fokker Service Bulletin | Date
Component Service Bulletin F8200-035-71-10 | May 30, 2005.
Component Service Bulletin F8200-035-71-11 | October 25, 2005.
Service Bulletin SBF50-71-048 | May 30, 2005.
Service Bulletin SBF50-71-049 | October 25, 2005.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2007-0639; Directorate Identifier 2007-NM-003-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-13-01 Fokker Services B.V.: Amendment 39-15564. Docket No. FAA-2008-0639; Directorate Identifier 2007-NM-003-AD.

Effective Date

(a) This airworthiness directive (AD) becomes effective August 1, 2008.

Affected ADs

(b) None.

Applicability

(c) This AD applies to Fokker Model F27 Mark 050 airplanes, certificated in any category, all serial numbers.

Subject

(d) Air Transport Association (ATA) of America Code 71: Powerplant.

Reason

(e) The mandatory continued airworthiness information (MCAI) states:

During scheduled X-ray inspections of Fokker 50 (F27 Mark 050) engine mounting frames, welding defects were discovered. In two forward frames and one aft frame, defects were found in a total of 4 weld locations. Investigation showed that during manufacture of the frames, when the tubes were welded to the end fittings, unintentional sideways movement of the electric arc resulted in some welds running beside the borderline for a part of the tube circumference. Where a weld runs beside the borderline, there is no connection between tube and end fitting for that part of the circumference, directly affecting the structural integrity of the engine mounting frame connections. The defective welding process appears to have happened at some of the welds in an unknown number of engine mounting frames. This condition, if not corrected, could lead to failure of the engine mounting frame in cases where multiple welds are severely affected, potentially resulting in in-flight loss of an engine. Since an unsafe condition had been identified that may exist on aircraft of the same type design, Airworthiness Directive NL-2005-007 was issued to require * * * a one-time inspection for improper welds. The [MCAI supersedes Airworthiness Directive NL-2005-007 and] further specifies the criteria and compliance times for the follow-up NDT (non-destructive test) inspection and repair or replacement of engine mounting frames, as necessary.

Corrective action includes contacting Fokker for repair instructions and repair.

Actions and Compliance

(f) Unless already done, do the following actions.

(1) Within 2 months after the effective date of this AD, inspect the engine mounting frames to identify those that have any sideways deviations in the welds, in accordance with Part 3 of the Accomplishment Instructions of Fokker Service Bulletin SBF50-71-048, dated May 30, 2005. When deviations are found that are less than or equal to 2.0 mm, no further action is required on that frame and the aircraft may be returned to service.

(2) When, during the inspection required by paragraph (f)(1) of this AD, deviations are found that are greater than 2.0 mm but less than or equal to 2.5 mm on any of the welds of the engine mounting frame, except those of tubes 7, 8, and 12 of the rear frame: Within 12 months after the effective date of this AD, NDT (non-destructive test) inspect the affected frame tubes in accordance with Part 3 of the Accomplishment Instructions of Fokker Service Bulletin SBF50-71-049, dated October 25, 2005.

(3) When, during the inspection required by paragraph (f)(1) of this AD, deviations are found that are greater than 2.5 mm but less than or equal to 3.0 mm on any of the welds of the engine mounting frame, except those of tubes 7, 8, and 12 of the rear frame: Within 9 months after the effective date of this AD, NDT-inspect the affected frame tubes in accordance with Part 3 of the Accomplishment Instructions of Fokker Service Bulletin SBF50-71-049, dated October 25, 2005.

(4) When, during the inspection required by paragraph (f)(1) of this AD, deviations are found that are greater than 3.0 mm but less than or equal to 3.5 mm on any of the welds of the engine mounting frame, except those of tubes 7, 8, and 12 of the rear frame: Within 6 months after the effective date of this AD, NDT-inspect the affected frame tubes in accordance with Part 3 of the Accomplishment Instructions of Fokker Service Bulletin SBF50-71-049, dated October 25, 2005.

(5) When, during the inspection required by paragraph (f)(1) of this AD, deviations are found that are greater than 3.5 mm but less than or equal to 5.0 mm on any of the welds of the engine mounting frame, except those of tubes 7, 8, and 12 of the rear frame: Within 3 months after the effective date of this AD, NDT-inspect the affected frame tubes in accordance with Part 3 of the Accomplishment Instructions of Fokker Service Bulletin SBF50-71-049, dated October 25, 2005.

(6) When, during the inspection required by paragraph (f)(1) of this AD, deviations are found that are greater than 2.0 mm but less than or equal to 5.0 mm on tubes 7, 8, and 12 of the rear frame: Within 3 months after the effective date of this AD, NDT-inspect the affected frame tubes in accordance with Part 3 of the Accomplishment Instructions of Fokker Service Bulletin SBF50-71-049, dated October 25, 2005.

(7) Within 7 days after doing any NDT-inspection required by this AD, or within 30 days after the effective date of this AD, whichever occurs later, report all findings to Fokker Services B.V., Technical Services Dept., P.O. Box 231, 2150 AE Nieuw-Vennep, the Netherlands.

(8) Within 30 days after reporting in accordance with paragraph (f)(7) of this AD, or within 30 days after the effective date of this AD, whichever occurs later, repair any frame deviation in accordance with a method approved by the Manager, International Branch, ANM-116, Transport Airplane Directorate, FAA, or by the European Aviation Safety Agency (EASA) (or its designated agent).

(9) When, during the inspection required by paragraph (f)(1) of this AD, deviations are found exceeding 5 mm, before further flight, report the inspection findings to Fokker Services B.V., Technical Services Dept., P.O. Box 231, 2150 AE Nieuw-Vennep, the Netherlands, and repair any such deviation in accordance with a method approved by the Manager, International Branch, ANM-116, Transport Airplane Directorate, FAA, or by EASA (or its designated agent).

(10) Except as provided by paragraphs (f)(10)(i), (f)(10)(ii), (f)(10)(iii), (f)(10)(iv), and (f)(10)(v) of this AD, as of the effective date of this AD, no person may install an engine mounting frame having part number F8200-035-427/-441/-451/-463 (forward frames); F8200-035-425/-443 (A-frames); or F8200-035-403/-439/-449/-461 (rear frames), as a replacement part, unless it has been inspected and found to have deviations less than or equal to 2.0 mm, in accordance with the requirements of Fokker Component Service Bulletin F8200-035-71-10, dated May 30, 2005.

(i) Any frame inspected in accordance with Fokker Component Service Bulletin F8200-035-71-10, and found to have any deviation greater than 2.0 mm but less than or equal to 2.5 mm on any tube, except tubes 7, 8, and 12 of the rear frame, is acceptable for installation. However, if a frame is installed in accordance with this paragraph, it must be NDT-inspected within 12 months after the installation, in accordance with Part 3 of the Accomplishment Instructions of Fokker Service Bulletin SBF50-71-049, dated October 25, 2005.

(ii) Any frame inspected in accordance with Fokker Component Service Bulletin F8200-035-71-10, and found to have any deviation greater than 2.5 mm but less than or equal to 3.0 mm on any tube, except tubes 7, 8, and 12 of the rear frame, is acceptable for installation. However, if a frame is installed in accordance with this paragraph, it must be NDT-inspected within 9 months after the installation, in accordance with Part 3 of the Accomplishment Instructions of Fokker Service Bulletin SBF50-71-049, dated October 25, 2005.

(iii) Any frame inspected in accordance with Fokker Component Service Bulletin F8200-035-71-10, and found to have any deviation greater than 3.0 mm but less than or equal to 3.5 mm on any tube, except tubes 7, 8, and 12 of the rear frame, is acceptable for installation. However, if a frame is installed in accordance with this paragraph, it must be NDT-inspected within 6 months after the installation, in accordance with Part 3 of the Accomplishment Instructions of Fokker Service Bulletin SBF50-71-049, dated October 25, 2005.

(iv) Any frame inspected in accordance with Fokker Component Service Bulletin F8200-035-71-10, and found to have any deviation greater than 3.5 mm but less than or equal to 5.0 mm on any tube, except tubes 7, 8, and 12 of the rear frame, is acceptable for installation. However, if a frame is installed in accordance with this paragraph, it must be NDT-inspected within 3 months after the installation, in accordance with Part 3 of the Accomplishment Instructions of Fokker Service Bulletin SBF50-71-049, dated October 25, 2005.

(v) Any tube 7, 8, or 12 of the rear frame, inspected in accordance with Fokker Component Service Bulletin F8200-035-71-10, and found to have any deviation greater than 2.0 mm but less than or equal to 5.0 mm, is acceptable for installation. However, if a frame is installed in accordance with this paragraph, it must be NDT-inspected within 3 months after the installation, in accordance with Part 3 of the Accomplishment Instructions of Fokker Service Bulletin SBF50-71-049, dated October 25, 2005.

FAA AD Differences

Note: This AD differs from the MCAI and/or service information as follows: No differences.

Other FAA AD Provisions

(g) The following provisions also apply to this AD:

(1) Alternative Methods of Compliance (AMOCs): The Manager, International Branch, ANM-116, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to Mandatory Continuing Airworthiness Information (MCAI) Dutch Airworthiness Directive NL-2005-015, dated November 30, 2005, and the service bulletins identified in Table 1 of this AD for related information.

Table 1.—Service Information
Fokker Service Bulletin | Date
Component Service Bulletin F8200-035-71-10 | May 30, 2005.
Component Service Bulletin F8200-035-71-11 | October 25, 2005.
Service Bulletin SBF50-71-048 | May 30, 2005.
Service Bulletin SBF50-71-049 | October 25, 2005.

Material Incorporated by Reference

(i) You must use the service information specified in Table 2 of this AD to do the actions required by this AD, as applicable, unless the AD specifies otherwise.

(1) The Director of the Federal Register approved the incorporation by reference of this service information under 5 U.S.C. 552(a) and 1 CFR part 51.

(2) For service information identified in this AD, contact Fokker Services B.V., Technical Services Dept., P.O. Box 231, 2150 AE Nieuw-Vennep, the Netherlands.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 2.—Material Incorporated by Reference
Service Bulletin | Date
Fokker Component Service Bulletin F8200-035-71-10 | May 30, 2005.
Fokker Service Bulletin SBF50-71-048 | May 30, 2005.
Fokker Service Bulletin SBF50-71-049 | October 25, 2005.

Issued in Renton, Washington, on June 26, 2008.
Dionne Palermo,
Acting Manager, Transport Airplane Directorate, Aircraft Certification Service.

[FR Doc. E8-15711 Filed 7-16-08; 8:45 am]

BILLING CODE 4910-13-P